DEPARTMENT OF ENERGY

Federal Energy Regulatory Commission

[Project No. 12532-002]

Pine Creek Mine LLC; Notice of Preliminary Permit Application Accepted for Filing and Soliciting Comment, Motions To Intervene, and Competing Applications

September 19, 2008.

On March 3, 2008, Pine Creek Mine, LLC filed an application, pursuant to section 4(f) of the Federal Power Act (FPA), to study the feasibility of the Pine Creek Mine Project to be located on Morgan and Pine Creeks, in Inyo County, California. The project would be located within the Inyo National Forest on lands of the U.S. Forest Service.

The proposed project would consist of: (1) The existing Pine Creek Mine site and 12,000 foot-long, 12 feet by 12 feet access tunnel; (2) an existing 12′ x 12′ by 30′ thick reinforced concrete plug in the Pine Creek Mine; (3) a proposed 24” or 18” -diameter steel penstock; (4) a proposed 1,500-kw generating unit; (5) a proposed 2.4 kV 2,500-foot-long transmission line; and (6) appurtenant facilities. The project would have an annual generation of 5.6 gigawatt-hours that would be sold to a local utility.

Applicant Contact: Mr. Fred Springer, Hydropower Policy Advisor, Troutman Sanders LLP, 401 Ninth Street, NW., Suite 1000, Washington, DC 20004-2134, (202) 274-2836. FERC Contact: Henry Woo, (202) 502-8872.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-12532) in the docket number field to access the document. For assistance, call toll-free 1-866-208-3372.

Kimberly D. Bose,
Secretary.

[FR Doc. E8-22618 Filed 9-25-08; 8:45 am]

BILLING CODE 6717-01-P